DEPARTMENT OF ENERGY

Federal Energy Regulatory Commission

Combined Notice of Filings

Take notice that the Commission has received the following Natural Gas Pipeline Rate and Refund Report filings:

Filings Instituting Proceedings

Docket Numbers: RP16-303-000.

Applicants: National Fuel Gas Supply Corporation.

Description: § 4(d) rate filing per 154.204: Settlement Rates (2015) to be effective 11/1/2015.

Filed Date: 12/16/15.

Accession Number: 20151216-5062.

Comments Due: 5 p.m. ET 12/28/15.

Docket Numbers: RP16-304-000.

Applicants: Bear Creek Storage Company, L.L.C.

Description: Annual Fuel Assessment Report of Bear Creek Storage Company, L.L.C. under RP16-304.

Filed Date: 12/16/15.

Accession Number: 20151216-5107.

Comments Due: 5 p.m. ET 12/28/15.

Docket Numbers: RP16-305-000.

Applicants: NGO Transmission, Inc.

Description: § 4(d) rate filing per 154.204: Negotiated Rate Filing to be effective 1/1/2016.

Filed Date: 12/16/15.

Accession Number: 20151216-5111.

Comments Due: 5 p.m. ET 12/28/15.

Docket Numbers: RP16-306-000.

Applicants: Rockies Express Pipeline LLC.

Description: § 4(d) rate filing per 154.204: Neg Rate 2015-12-16 Encana to be effective 12/16/2015.

Filed Date: 12/16/15.

Accession Number: 20151216-5133.

Comments Due: 5 p.m. ET 12/28/15.

Docket Numbers: RP16-307-000.

Applicants: Iroquois Gas Transmission System, L.P.

Description: § 4(d) rate filing per 154.204: 12/16/15 Negotiated Rates—Spotlight Energy, LLC (RTS) 7725-02 to be effective 12/16/2015.

Filed Date: 12/16/15.

Accession Number: 20151216-5182.

Comments Due: 5 p.m. ET 12/28/15.

Docket Numbers: PR16-9-000.

Applicants: Arcadia Gas Storage, LLC.

Description: Tariff filing per 284.123(b)(2)/.: Arcadia Gas Storage—Dec15 SOC Modifications to be effective 12/15/2015; Filing Type: 760.

Filed Date: 12/15/15.

Accession Number: 201512155229.

Comments/Protests Due: 5 p.m. ET 1/5/16.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 17, 2015.
Nathaniel J. Davis, Sr.,
Deputy Secretary.

[FR Doc. 2015-32274 Filed 12-22-15; 8:45 am]

BILLING CODE 6717-01-P